NATIONAL FOUNDATION ON THE ARTS AND THE HUMANITIES

Arts Advisory Panel Meeting

AGENCY: National Endowment for the Arts, National Foundation on the Arts and Humanities.

ACTION: Notice of meeting.

SUMMARY: Pursuant to Section 10(a)(2) of the Federal Advisory Committee Act (Pub. L. 92-463), as amended, notice is hereby given that 19 meetings of the Arts Advisory Panel to the National Council on the Arts will be held by teleconference at the National Endowment for the Arts, Constitution Center, 400 7th St. SW., Washington, DC 20506 as follows (all meetings are Eastern time and ending times are approximate):

Theater & Musical Theater (application review): This meeting will be closed.

Dates: July 2, 2014. 12:00 p.m. to 2:00 p.m.

Theater & Musical Theater (application review): This meeting will be closed.

Dates: July 2, 2014. 3:00 p.m. to 5:00 p.m.

Presenting & Multidisciplinary Works (application review): This meeting will be closed.

Dates: July 8, 2014. 2:00 p.m. to 4:00 p.m.

Artist Communities (application review): This meeting will be closed.

Dates: July 9, 2014. 2:00 p.m. to 4:00 p.m.

Music (application review): This meeting will be closed.

Dates: July 9, 2014. 12:00 p.m. to 2:00 p.m.

Music (application review): This meeting will be closed.

Dates: July 9, 2014. 3:00 p.m. to 5:00 p.m.

Arts Education (application review): This meeting will be closed.

Dates: July 10, 2014. 1:45 p.m. to 3:15 p.m.

Music (application review): This meeting will be closed.

Dates: July 10, 2014. 12:00 p.m. to 2:00 p.m.

Music (application review): This meeting will be closed.

Dates: July 10, 2014. 3:00 p.m. to 5:00 p.m.

Presenting & Multidisciplinary Works (application review): This meeting will be closed.

Dates: July 15, 2014. 2:00 p.m. to 4:00 p.m.

Presenting & Multidisciplinary Works (application review): This meeting will be closed.

Dates: July 16, 2014. 2:00 p.m. to 4:00 p.m.

Museums (application review): This meeting will be closed.

Dates: July 17, 2014. 2:30 p.m. to 5:00 p.m.

Museums (application review): This meeting will be closed.

Dates: July 18, 2014. 11:30 a.m. to 2:00 p.m.

Museums (application review): This meeting will be closed.

Dates: July 18, 2014. 2:30 p.m. to 5:00 p.m.

Media Arts (application review): This meeting will be closed.

Dates: July 21, 2014. 2:00 p.m. to 4:30 p.m.

Media Arts (application review): This meeting will be closed.

Dates: July 22, 2014. 2:00 p.m. to 4:30 p.m.

Arts Education (application review): This meeting will be closed.

Dates: July 24, 2014. 12:45 p.m. to 3:00 p.m.

Arts Education (application review): This meeting will be closed.

Dates: July 30, 2014. 2:00 p.m. to 3:30 p.m.

Arts Education (application review): This meeting will be closed.

Dates: July 31, 2014. 2:00 p.m. to 3:30 p.m.

FOR FURTHER INFORMATION CONTACT: Further information with reference to these meetings can be obtained from Ms. Kathy Plowitz-Worden, Office of Guidelines & Panel Operations, National Endowment for the Arts, Washington, DC 20506; plowitzk@arts.gov, or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: June 25, 2014.
Kathy Plowitz-Worden,
Panel Coordinator, National Endowment for the Arts.

[FR Doc. 2014-15335 Filed 6-30-14; 8:45 am]

BILLING CODE 7537-01-P